SECURITIES AND EXCHANGE COMMISSION

[File No. 500-1]

Global Medical Products Holdings, Inc., Order of Suspension of Trading

April 23, 2010.

It appears to the Securities and Exchange Commission that there is a lack of current and accurate information concerning the securities of Global Medical Products Holdings, Inc. because it has not filed any periodic reports since the period ended June 30, 2003.

The Commission is of the opinion that the public interest and the protection of investors require a suspension of trading in the securities of the above-listed company. Therefore, it is ordered, pursuant to Section 12(k) of the Securities Exchange Act of 1934, that trading in the securities of the above-listed company is suspended for the period from 9:30 a.m. EDT on April 23, 2010, through 11:59 p.m. EDT on May 6, 2010.

By the Commission.
Elizabeth M. Murphy,
Secretary.

[FR Doc. 2010-9811 Filed 4-23-10; 4:15 pm]

BILLING CODE 8011-01-P